Title 3—

The President

Proclamation 7516 of December 27, 2001

To Extend Nondiscriminatory Treatment (Normal Trade Relations Treatment) to the Products of the People's Republic of China

By the President of the United States of America

A Proclamation

1. The United States and the People's Republic of China (China) opened trade relations in 1980. Since that time, the products of China have received nondiscriminatory treatment pursuant to annual waivers of the requirements of section 402 of the Trade Act of 1974 (the “Trade Act”) (19 U.S.C. 2432). Trade between the United States and China has expanded significantly even though China has maintained restrictions on market access for U.S. exports and investment.

2. On November 15, 1999, the United States and China agreed on certain terms and conditions for China's accession to the World Trade Organization (WTO) that when implemented will eliminate or greatly reduce the principal barriers to trade and investment in China.

3. On November 9, 2001, pursuant to section 101(b) of Public Law 106-286, 114 Stat. 881, I transmitted a report to the Congress certifying that the terms and conditions for the accession of China to the WTO are at least equivalent to those agreed between the United States and China on November 15, 1999. On November 10, 2001, the Ministerial Conference of the WTO approved the terms and conditions for China's accession and invited China to become a member of the WTO. China has accepted these terms and conditions and became a WTO member on December 11, 2001.

4. Pursuant to section 101(a)(1) of Public Law 106-286, 114 Stat. 881, I hereby determine that chapter 1 of title IV of the Trade Act should no longer apply to China.

NOW, THEREFORE, I, GEORGE W. BUSH, President of the United States of America, acting under the authority vested in me by the Constitution and the laws of the United States, including but not limited to sections 101(a)(2) and 102(a) of Public Law 106-286, 114 Stat. 881, do hereby proclaim that:

(1) Nondiscriminatory treatment (normal trade relations treatment) shall be extended to the products of China; and

(2) The extension of nondiscriminatory treatment to the products of China shall be effective as of January 1, 2002.

IN WITNESS WHEREOF, I have hereunto set my hand this twenty-seventh day of December, in the year of our Lord two thousand one, and of the Independence of the United States of America the two hundred and twenty-sixth.

B

[FR Doc. 02-326

Filed 1-3-01; 8:45 am]

Billing code 3195-01-P